DEPARTMENT OF COMMERCE

Census Bureau

Agency Information Collection Activities; Submission to the Office of Management and Budget (OMB) for Review and Approval; Comment Request; Household Pulse Survey; Correction

AGENCY: U.S. Census Bureau, Department of Commerce.

ACTION: Notice; correction.

SUMMARY: On April 28, 2023, the Department of Commerce, published a 30-day public comment period notice in the Federal Register with FR Document Number 2023-08953 page 26273 seeking public comments for the information collection entitled, “Household Pulse Survey 3.9 revision.” This document referenced incorrect information in the narrative, and Commerce hereby issues a correction notice as required by the Paperwork Reduction Act of 1995.

FOR FURTHER INFORMATION CONTACT: For additional information concerning this correction, contact Cassandra Logan, U.S. Census Bureau, (301) 763-1087 (or via the internet at Cassandra.logan@census.gov).

SUPPLEMENTARY INFORMATION:

Narrative section incorrectly stated:

It is the Department's intention to commence data collection using the revised instrument on or about December 7, 2022.

Correction

Should have read:

The Department intends to commence data collection using the revised instrument on or about May 31, 2023.

This information collection request may be viewed at www.reginfo.gov. Follow the instructions to view the Department of Commerce collections currently under review by OMB.

Written comments and recommendations for the proposed information collection should be submitted within 30 days of the initial publication notice date of March 15, 2021 on the following website www.reginfo.gov/public/do/PRAMain. Find this particular information collection by selecting “Currently under 30-day Review—Open for Public Comments” or by using the search function and entering either the title of the collection or the OMB Control Number 0607-1013.

Sheleen Dumas,
Department PRA Clearance Officer, Office of the Under Secretary for Economic Affairs, Commerce Department.

[FR Doc. 2023-09752 Filed 5-5-23; 8:45 am]

BILLING CODE 3510-07-P